DEPARTMENT OF ENERGY

Agency Information Collection Extension

AGENCY: National Nuclear Security Administration, U.S. Department of Energy.

ACTION: Notice and request for comments.

SUMMARY: The Department of Energy (DOE), pursuant to the Paperwork Reduction Act of 1995, intends to extend for three years an information collection request with the Office of Management and Budget (OMB).

DATES: Comments regarding this proposed information collection must be received on or before July 31, 2018. If you anticipate difficulty in submitting comments within that period, contact the person listed below as soon as possible.

ADDRESSES: Written comments may be sent by email to part810@nnsa.doe.gov. Include “Paperwork Reduction Act” in the subject line. Comments can also be sent by fax at (202) 586-6789 or by mail to Katie Strangis, Policy Advisor, Office of Nonproliferation and Arms Control, NA-24, National Nuclear Security Administration, Department of Energy, 1000 Independence Avenue SW, Room 7F-075, Washington, DC 20585. Due to potential delays in DOE's receipt and processing of mail sent through the U.S. Postal Service, DOE encourages responders to submit comments electronically to ensure timely receipt.

FOR FURTHER INFORMATION CONTACT: Additional information on DOE's regulation of assistance to foreign atomic energy activities pursuant to 10 CFR part 810 is available at https://www.energy.gov/nnsa/10-cfr-part-810. For other questions, contact Katie Strangis, Policy Advisor, Office of Nonproliferation and Arms Control, NA-24, National Nuclear Security Administration, Department of Energy, 1000 Independence Avenue SW, Room 7F-075, Washington, DC 20585, telephone (202) 586-8623.

SUPPLEMENTARY INFORMATION: This information collection request contains: (1) OMB No. A1901-0263; (2) Information Collection Request Title: Assistance to Foreign Atomic Energy Activities; (3) Type of Review: Extension; (4) Purpose: This collection of information is necessary in order to provide the Secretary of Energy with the appropriate information needed to make informed determinations regarding requests to directly or indirectly engage or participate in the development or production of special nuclear material outside the United States; (5) Annual Estimated Number of Respondents: 89; (6) Annual Estimated Number of Total Responses: 596; (7) Annual Estimated Number of Burden Hours: 1,788; (8) Annual Estimated Reporting and Recordkeeping Cost Burden: $178,600. Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

Statutory Authority: Section 57 b.(2) of the Atomic Energy Act (AEA) of 1954 and Section 161(c) of the AEA.

Issued in Washington, DC, on May 25, 2018.
Sean Oehlbert,
Acting Policy Director, Office of Nonproliferation and Arms Control, Department of Energy's National Nuclear Security Administration.

[FR Doc. 2018-11787 Filed 5-31-18; 8:45 am]

BILLING CODE 6450-01-P